DEPARTMENT OF TRANSPORTATION

[Docket No. PHMSA-2019-0172]

Pipeline Safety: Information Collection Activities

AGENCY: Pipeline and Hazardous Materials Safety Administration (PHMSA), DOT.

ACTION: Notice and request for comments.

SUMMARY: In accordance with the Paperwork Reduction Act of 1995, PHMSA invites comments on proposed revisions to Form PHMSA F 7100.2-1, “Annual Report for Natural and Other Gas Transmission and Gathering Pipeline Systems,” and Form PHMSA F 7100.4-1, “Underground Natural Gas Storage Facility Annual Report,” both under Office of Management and Budget (OMB) Control No. 2137-0522; and Form PHMSA F 7100.2, “Incident Report—Gas Transmission and Gathering Systems,” under OMB Control No. 2137-0635.

DATES: Interested persons are invited to submit comments on or before February 16, 2021.

ADDRESSES: Comments may be submitted in the following ways:

E-Gov Website: http://www.regulations.gov. This site allows the public to enter comments on any Federal Register notice issued by any agency.

Fax: 1-202-493-2251.

Mail: Docket Management Facility; U.S. Department of Transportation (DOT), 1200 New Jersey Avenue SE, West Building, Room W12-140, Washington, DC 20590-0001.

Hand Delivery: Room W12-140 on the ground level of DOT, West Building, 1200 New Jersey Avenue SE, Washington, DC, between 9:00 a.m. and 5:00 p.m., Monday through Friday, except Federal holidays.

Instructions: Identify the docket number, PHMSA-2019-0172 at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000, (65 FR 19477) or visit http://www.regulations.gov before submitting any such comments.

Docket: For access to the docket or to read background documents or comments, go to http://www.regulations.gov at any time or to Room W12-140 on the ground level of DOT, West Building, 1200 New Jersey Avenue SE, Washington, DC, between 9:00 a.m. and 5:00 p.m., Monday through Friday, except Federal holidays. If you wish to receive confirmation of receipt of your written comments, please include a self-addressed, stamped postcard with the following statement: “Comments on: PHMSA-2019-0172.” The Docket Clerk will date stamp the postcard prior to returning it to you via the U.S. mail. Please note that due to delays in the delivery of U.S. mail to Federal offices in Washington, DC, we recommend that persons consider an alternative method (internet, fax, or professional delivery service) of submitting comments to the docket and ensuring their timely receipt at DOT.

Privacy Act Statement: DOT may solicit comments from the public regarding certain general notices. DOT posts these comments, without edit, including any personal information the commenter provides, to www.regulations.gov, as described in the system of records notice (DOT/ALL-4 FDMS), which can be reviewed at www.dot.gov/privacy.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 CFR 190.343, you may ask PHMSA to give confidential treatment to information you give to the Agency by taking the following steps: (1) Mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to Angela Hill, DOT, PHMSA, 1200 New Jersey Avenue SE, PHP-30, Washington, DC 20590-0001. Any commentary PHMSA receives that is not specifically designated as CBI will be placed in the public docket for this matter.

FOR FURTHER INFORMATION CONTACT: Angela Hill by telephone at 202-366-1246, by email at Angela.Hill@dot.gov, or by mail at DOT, PHMSA, 1200 New Jersey Avenue SE, PHP-30, Washington, DC 20590-0001.

SUPPLEMENTARY INFORMATION:

I. Background

Section 1320.8(d), Title 5, Code of Federal Regulations, requires PHMSA to provide interested members of the public and affected entities an opportunity to comment on information collection and recordkeeping requests. This notice identifies the proposed changes to information collections under OMB Control Numbers 2137-0522 and 2137-0635 that PHMSA will submit to OMB for approval.

A. PHMSA F 7100.2-1 Annual Report for Natural and Other Gas Transmission and Gathering Pipeline Systems

PHMSA proposes to add a section to this Annual Report form to collect data about the number of miles of gas transmission pipelines in high consequence areas (HCA) categorized by the HCA determination method found at 49 CFR 192.903 and the type of risk model used. This proposal is in response to National Transportation Safety Board (NTSB) Recommendation P-15-15.

PHMSA proposes to add Part G1 to the Annual Report form to collect data on the number of relief valve lifts and compressor station emergency shutdown (ESD) events that occurred within a calendar year. PHMSA is adding the number of relief valve lifts and ESD events to the Annual Report because each represents a deviation from normal operations and may indicate the need for changes to equipment or processes. PHMSA also proposes amending the gas transmission and gathering incident report to exclude reporting of relief valve lifts and ESD events when the systems function as expected, which is a change in PHMSA's interpretation of “intentional” releases.

In January 2020, OMB approved changes to the Gas Transmission Annual Report form in conjunction with new regulations promulgated in a final rule titled “Safety of Gas Transmission Pipelines, MAOP Reconfirmation, Expansion of Assessment Requirements and Other Related Amendments” (84 FR 52180). During the OMB review period of the final rule, the American Gas Association, the American Petroleum Institute, the American Public Gas Association, and the Interstate Natural Gas Association of America, (the Associations) submitted joint comments on the proposed changes to the form. PHMSA's responses to the Associations' comments are as follows:

Comment: The Associations commented that collecting data on pipeline segments with a maximum allowable operating pressure (MAOP) of less than 30% of specified minimum yield strength (SMYS) offers little value and that PHMSA should specify, in the annual report instructions, that moderate consequence areas (MCA)-related reporting requirements (mileage, inspections, etc.) should only apply to pipelines with a MAOP that produces a hoop stress that is greater than or equal to 30% of SMYS.

Response: PHMSA is retaining this data collection element. PHMSA requires data on pipeline segments with a MAOP that is less than 30% SMYS to evaluate integrity issues in the pipeline operations. The data is also used to evaluate whether new safety requirements should be incorporated in the regulations.

Comment: Currently, Sections J through L of Part G of the Annual Report form require operators to submit data on both the baseline integrity assessment and the reassessment mileage for pipelines in class 1 or class 2 locations that are non-HCA or non-MCA. The Associations commented that it would be more appropriate for operators to report the total mileage of class 1 and class 2 non-HCA/non-MCA pipe segments assessed during the calendar year, rather than breaking down this mileage into “baseline” and “reassessment.”

Response: PHMSA agrees that there is little value in having operators indicate whether they used the first or a subsequent assessment to provide the required data. PHMSA proposes to replace the current “baseline assessment” and “reassessed” categories with a single “miles assessed” data field.

Comment: Part Q of the form requires operators to identify whether class 1 and 2 location segments that are non-HCA or non-MCA have complete MAOP records. The Associations commented that collecting and evaluating MAOP records for completeness for segments that are outside the scope of § 192.624 adds a significant new regulatory requirement that was not proposed in the Notice of Proposed Rulemaking (NPRM) for the new regulations or discussed by the Technical Pipeline Safety Standards Committee, also referred to as the Gas Pipeline Advisory Committee. The Associations request that PHMSA exclude the requirement for reporting the completeness of MAOP records for class 1 and 2 segments that are non-HCA or non-MCA.

Response: PHMSA proposed this data collection requirement in conjunction with the NPRM and provided an opportunity for public comment. Having received no comments on the requirement during that time, PHMSA forwarded the collection requirement to OMB for review and subsequently obtained OMB's approval in conjunction with the final rule. Therefore, the data collection requirement is considered to be within scope of both the NPRM and the final rule. However, given the costs and burden associated with implementing the Gas Transmission rule requirements, PHMSA has decided to postpone implementation of this data collection requirement. PHMSA proposes to revise the Gas Transmission Annual Report form to repeal the requirement for class 1 and class 2 segments that are non-HCA or non-MCA to report whether their MAOP records are complete. PHMSA reserves the right to pursue this data collection at a later time, as it is determined to be part of the final rule, and maintains that having complete MAOP records is critical for pipeline safety.

Comment: Currently, operators are required to provide data for pressure test mileage within pressure test ranges: [≥1.5], [1.5 to ≥1.39], [1.39 to ≥1.25], [1.25 to ≥1.1], [1.1 to 1], and [no test]. The Associations commented that all tests performed below 1.1 times the MAOP would be considered invalid pressure tests under PHMSA's regulations. The Associations commented that they recommend PHMSA align the pressure test ranges in Part F with the pressure test factors specified in 49 CFR 192.619: [≥1.5], [<1.5 to ≥1.25], [<1.25 to ≥1.1], and [Less than 1.1 or no test].

Response: PHMSA agrees with the Associations. The lowest allowable pressure test, in accordance with 49 CFR 192.619(a)(2), is 1.1. PHMSA proposes revising the form to combine the “1.1 to 1” and “no test” categories into a single category.

Comment: The Associations commented that they recommend the removal of sections 3.1-3.3 from the Annual Report requirements. When a pressure test is used as an integrity assessment method, the specific pressure test factor is generally less relevant. The Associations suggest collecting mileage by individual test factor only in Part R of the form.

Response: PHMSA agrees with this comment and proposes to revise the Annual Report form to align with this change.

Comment: The Associations commented that they recommend the revised Annual Report form go into effect for the 2021 reporting year (due in March 2022), after operators have been required to identify those pipeline segments that are subject to the requirements of the final rule “Safety of Gas Transmission Pipelines, MAOP Reconfirmation, Expansion of Assessment Requirements and Other Related Amendments.”

Response: PHMSA agrees with the timeframe and has already made the requested adjustments to the implementation schedule.

B. PHMSA F 7100.2 Incident Report for Gas Transmission and Gathering Systems

PHMSA proposes to revise the instructions to form PHMSA F 7100.2 to remove the requirement for operators to report relief valve lifts and compressor station ESD events when the systems function as expected. PHMSA understands that the intentional use of pressure relief systems does not necessarily constitute an incident and has revised the incident report instructions to reflect this. Under this revision, instead of reporting these occurrences as incidents, operators would submit data on intentional gas releases on the Gas Transmission and Gathering Annual Report form PHMSA F 7100.2-1.

During a previous update of form PHMSA F 7100.2, PHMSA inadvertently removed instructions regarding when questions G6 through G8 were required to be completed. Previously, the form was clear that these questions are only required to be completed when part A14 (“onshore pipeline . . .” or “offshore pipeline . . .”) is answered. PHMSA proposes to return these instruction details prior to question G6 on both the form and in the instructions.

C. PHMSA F 7100.4-1 Underground Natural Gas Storage Facility Annual Report

PHMSA proposes to clarify several instructions and to modify the reporting of well counts on PHMSA F 7100.4-1. The proposed clarifications and modifications are detailed below:

1. Part B1. Facility Name

PHMSA proposes to instruct operators to use the facility name registered with federal or state government agencies. This change would provide a more consistent facility name for stakeholders.

2. Part B3. Facility Location

PHMSA proposes to clarify the instructions for a facility located in multiple counties and for providing details about the format of the latitude and longitude coordinates of such facilities.

3. Part B4. Energy Information Administration (EIA) Gas Field Code

PHMSA proposes to correct the website link to EIA gas field codes.

4. Part B5. Working Gas Capacity

PHMSA proposes to clarify the instructions by specifying the design working gas capacity, rather than the current working gas capacity.

5. Part B6. Base Gas

PHMSA proposes to clarify the instructions for reporting the volume of base gas by specifying that native gas is included in base gas. This clarification is to promote consistency in how this data is reported.

6. Part B8. and B9. Volumes for Calendar Year

PHMSA proposes to clarify the instructions for entering the value of the volume of natural gas withdrawn from or injected into the facility to specify that the volume must be measured with a meter. This clarification is to promote accuracy in this reported data.

7. Part C1. Reservoir Name

PHMSA proposes to clarify the instructions to collect the salt dome name rather than individual cavern name(s). This clarification is to promote accuracy in the reported data.

8. Part C4. Maximum Wellhead Surface Pressure

PHMSA proposes to clarify the instructions by replacing the term “indicator” with “representative” when referring to the specific well. Feedback from industry indicates that representative well is a more widely recognized term than indicator well.

9. Part C5. and C6. Reservoir Depths

PHMSA proposes to clarify the instructions by replacing the term “grade” with “ground level” and replacing the term “geologic storage formation” with “cavern(s).” This clarification will eliminate confusion for cavern operators and provide consistency in the reported data.

10. Part C7. and C8. Number of Wells

PHMSA proposes to revise the form and instructions to collect the number of wells placed into storage operation in 5-year ranges. The change is proposed for both injection/withdraw and monitoring wells. The date a well was placed into storage operation can be indicative of its integrity.

11. Part C10. Wells Plugged and Abandoned

Currently, wells plugged and abandoned are reported as a single number. Since some wells may be plugged, but not abandoned, PHMSA proposes to collect counts separately. This change would provide better clarity on the status of wells.

12. Part C11. and C12. Well Safety Valves

PHMSA proposes to clarify the form and instructions to reflect that only automated safety valves are to be reported. This clarification will promote accuracy in reporting. Reporting is not needed for manual safety valves.

13. Part C21. Through C23. Well Tests

PHMSA proposes to modify the form and instructions to use testing terminology more familiar to the pipeline industry.

II. Summary of Impacted Collection

Section 1320.8(d), Title 5, Code of Federal Regulations, requires PHMSA to provide interested members of the public and affected agencies an opportunity to comment on information collection and recordkeeping requests. This notice identifies an information collection request that PHMSA will submit to OMB for revision.

The following information is provided for this information collection: (1) Title of the information collection; (2) OMB control number; (3) Current expiration date; (4) Type of request; (5) Abstract of the information collection activity; (6) Description of affected public; (7) Estimate of total annual reporting and recordkeeping burden; and (8) Frequency of collection.

PHMSA will request a 3-year term of approval for this information collection activity. PHMSA requests comments on the following information:

1. Title: Annual and Incident Reports for Gas Pipeline Operators.

OMB Control Number: 2137-0522.

Current Expiration Date: 1/31/2023.

Type of Request: Revision.

Abstract: This mandatory information collection covers the collection of data from operators of natural gas pipelines, underground natural gas storage facilities, and liquefied natural gas facilities for annual reports. 49 CFR 191.17 requires operators of underground natural gas storage facilities, gas transmission systems and gas gathering systems to submit an annual report by March 15, for the preceding calendar year. This revision includes changes to the form and instructions for PHMSA F 7100.4-1, “Underground Natural Gas Storage Facility Annual Report,” and revisions to the form and instructions for PHMSA F 7100.2-1, “Gas Transmission and Gathering Systems Annual Report.” The revisions to the Underground Natural Gas Storage Facility Annual Report form are to provide clarity on submitting data and include no new data elements. The revisions to the Gas Transmission and Gathering Systems Annual Report form include collecting the number of miles in high consequence areas in accordance with 49 CFR 192.903 and the type of risk model used; collecting data on the number of relief valve lifts and compressor station ESD events that occurred within a calendar year; and to reorganize some data fields to streamline the reporting of certain data elements.

Affected Public: Operators of Natural Gas Pipelines, Underground Natural Gas Storage Facilities, and Liquefied Natural Gas Facilities.

Annual Reporting and Recordkeeping Burden:

Annual Responses: 10,547.

Annual Burden Hours: 80,101.

Frequency of Collection: Annually and on occasion.

2. Title: Incident Reporting for Natural Gas Pipeline Operators and LNG Facilities.

OMB Control Number: 2137-0635.

Current Expiration Date: 1/31/2023.

Type of Request: Revision.

Abstract: PHMSA proposes to revise the instructions for the Incident Report—Natural and Other Gas Transmission and Gathering Pipeline System (PHMSA F 7100.2) to remove the requirement for operators to submit data regarding intentional gas releases via the incident report.

Affected Public: Natural Gas Pipeline Operators and Operators of LNG Facilities.

Annual Reporting and Recordkeeping Burden:

Estimated Number of Responses: 301.

Estimated Annual Burden Hours: 3,612.

Frequency of Collection: On occasion.

Comments are invited on:

(a) The need for the renewal and revision of these collections of information for the proper performance of the functions of the Agency, including whether the information will have practical utility;

(b) The accuracy of the Agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Authority: The Paperwork Reduction Act of 1995; 44 U.S.C. Chapter 35, as amended; and 49 CFR 1.48.

Issued in Washington, DC, on December 10, 2020, under authority delegated in 49 CFR 1.97.
Alan K. Mayberry,
Associate Administrator for Pipeline Safety.

[FR Doc. 2020-27712 Filed 12-16-20; 8:45 am]

BILLING CODE 4910-60-P